NEIGHBORHOOD REINVESTMENT CORPORATION

Finance, Budget & Program Committee Meeting of the Board of Directors; Sunshine Act

TIME AND DATE: 2 p.m., Wednesday, September 7, 2011

PLACE: 1325 G Street, NW., Suite 800, Boardroom, Washington, DC 20005.

STATUS: Open.

CONTACT PERSON FOR MORE INFORMATION: Erica Hall, Assistant Corporate Secretary, (202) 220-2376; ehall@nw.org.

AGENDA:

I. CALL TO ORDER

II. Financial Report

III. Budget Report

IV. Lease Update

V. Corporate Scorecard

VI. National Foreclosure Mitigation Counseling (NFMC)

VII. Program Updates

VIII. Adjournment

Erica Hall,
Assistant Corporate Secretary.

[FR Doc. 2011-22750 Filed 9-1-11; 11:15 am]

BILLING CODE 7570-02-P